DEPARTMENT OF COMMERCE

National Oceanic and Atmospheric Administration

[I.D. 123005D]

Gulf of Mexico Fishery Management Council; Scoping Hearings

AGENCY: National Marine Fisheries Service (NMFS), National Oceanic and Atmospheric Administration (NOAA), Commerce.

ACTION: Notice of scoping hearings.

SUMMARY: The Gulf of Mexico Fishery Management Council (Council) will convene scoping hearings to solicit comments on two joint amendments: Joint Reef Fish Amendment 27/Shrimp 14 and Joint Reef Fish Amendment 28/Shrimp 15.

DATES: The scoping hearings will held from January 23 - 31, 2006 at 10 locations throughout the Gulf of Mexico. For specific dates and times see SUPPLEMENTARY INFORMATION.

ADDRESSES:

Meeting addresses: The scoping hearings will be held in the following locations: Brownsville, Port Aransas, and Galveston, Texas; Larose, Louisiana; Pascagoula, Mississippi; Mobile and Orange Beach, Alabama; and Panama City, Tampa, and Key West, Florida. For specific dates and times see SUPPLEMENTARY INFORMATION.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Gulf of Mexico Fishery Management Council (Council) has scheduled a series of scoping hearings to solicit public comment on two draft scoping documents. The first, Joint Reef Fish Amendment 27/Shrimp 14 proposes actions that deal with adjustments to the total allowable catch (TAC) for red snapper, size limits, bag limits, recreational season dates, and the certification of new shrimp bycatch reduction devices (BRDs). The amendment will also look at directed fishery gear restrictions and depth restrictions on the commercial fishery.

The second document, Joint Reef Fish Amendment 28/Shrimp 15, will consider such issues as shrimp trawl gear limits, limitations of shrimp vessel permit transferability, further reducing bycatch, shrimp fishery bycatch quota and quota monitoring, vessel monitoring systems (VMS), possible area closures for shrimp, and other management alternatives.

The scoping hearings will begin at 7 p.m. and conclude at the end of public testimony or no later than 10 p.m. at each of the following locations:

Monday, January 23, 2006, Four Points by Sheraton, 3777 North Expressway, Brownsville, TX 78520, telephone: (956) 547-1500;

Monday, January 23, 2006, Holiday Inn Mobile I-10 Bellingrath Gardens, 5465 Highway 90 West, Mobile, AL 36619, telephone: (251) 666-5600;

Tuesday, January 24, 2006, University of Texas Marine Science Institute Auditorium, 750 Channel View Drive, Port Aransas, TX 78373, telephone: (361) 749-6711;

Tuesday, January 24, 2006, LaFont Inn, 2703 Denny Avenue, Pascagoula, MS 39567, telephone: (228) 762-7111;

Wednesday, January 25, 2006, Holiday Inn Galveston, 5002 Seawall Boulevard, Galveston, TX 77550, telephone: (409) 740-3581

Wednesday, January 25, 2006, Hilton Garden Inn Orange Beach, 23092 Perdido Beach Boulevard, Orange Beach, AL 36561, telephone: (251) 974-1600;

Thursday, January 26, 2006, Larose Regional Park Gym, 307 East 5th Street, Larose, LA 70373, telephone: (985) 693-7355;

Thursday, January 26, 2006, National Marine Fisheries Service Laboratory, 3500 Delwood Beach Road, Panama City, FL 32408, telephone: (850) 234-6541;

Monday, January 30, 2006, Tampa Marriott Westshore, 1001 North Westshore Boulevard, Tampa, FL 33607, (813) 287-2555; and

Tuesday, January 31, 2006, DoubleTree Grand Key Resort, 3990 South Roosevelt Boulevard, Key West, FL 33040, telephone: (305) 293-1818.

Copies of the scoping documents and related materials can be obtained by calling the Council office at (813) 348-1630.

Special Accommodations

These meetings are physically accessible to people with disabilities. Requests for sign language interpretation or other auxiliary aids should be directed to Dawn Aring at the Council (see ADDRESSES) at least 5 working days prior to the meeting.

Dated: January 5, 2006.
Emily Menashes,
Acting Director, Office of Sustainable Fisheries, National Marine Fisheries Service.

[FR Doc. E6-188 Filed 1-10-06; 8:45 am]

BILLING CODE 3510-22-S